DEPARTMENT OF COMMERCE

Foreign-Trade Zones Board

[Docket 34-2005]

Foreign-Trade Zone 44 - Morris County, New Jersey, Application for Subzone, Tiffany & Co. (Jewelry and Consumer Goods), Parsippany and Whippany, New Jersey

An application has been submitted to the Foreign-Trade Zones Board (the Board) by the New Jersey Commerce, Economic Growth and Tourism Commission, grantee of FTZ 44, requesting special-purpose subzone status for the warehousing and distribution facilities of Tiffany & Co. (Tiffany), located in Parsippany and Whippany, New Jersey. The application was submitted pursuant to the provisions of the Foreign-Trade Zones Act, as amended (19 U.S.C. 81a-81u), and the regulations of the Board (15 CFR part 400). It was formally filed on July 19, 2005.

The Tiffany facilities (1157 employees) consist of two sites on 78 acres: Site 1 (40 acres) is located at 15 Sylvan Way, Parsippany, Morris County; and Site 2 (38 acres) is located at 141 Parsippany Road, Whippany, Morris County. The facilities are used for the storage, distribution and packaging of jewelry, clocks, sterling silverware, stainless steel flatware, china, crystal, stationary, glassware, fragrances and accessories.

Zone procedures would exempt Tiffany from Customs duty payments on products that are re-exported. Some 40 percent of the products are re-exported. On its domestic sales, the company would be able to defer duty payments until merchandise is shipped from the plant and entered for consumption. FTZ designation would further allow Tiffany to utilize certain Customs procedures resulting in increased efficiencies for its logistics and distribution operations. In addition, Tiffany is requesting authority to choose the duty rates during Customs entry procedures that apply to jewelry, china, glassware, ornaments, brushes, pens, pencils, pocket lighters and scent sprayers (HTS 6911.10, 6911.90, 6912.00, 6913.10, 6913.90, 6914.10, 7006.00, 7010.90, 7013.21, 7013.29, 7013.31, 7013.39, 7013.91, 7013.99, 7020.00, 7101.10, 7101.22, 7102.39, 7103.10, 7103.91, 7103.99, 7108.13, 7110.19, 7113.11, 7113.19, 7113.20, 7116.20, 7117.90, 7407.29, 9013.80, 9014.10, 9505.10, 9601.90, 9603.29, 9603.30, 9608.10, 9608.39, 9608.40, 9608.60, 9608.99, 9613.20, 9616.10, 9706.00, duty rate ranges from duty-free to 38%) for certain imported plastic and glass packaging materials (HTS 3923.10, 3923.30, 3923.50, 7010.90 and 7020.00, duty rate ranges from 2.5-5.3%). The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building - Suite 4100W, 1099 14th St. NW, Washington, D.C. 20005; or

2. Submissions Via the U.S. Postal Service: Foreign-Trade-Zones Board, U.S. Department of Commerce, FCB - Suite 4100W, 1401 Constitution Ave. NW, Washington, D.C. 20230.

The closing period for their receipt is September 26, 2005. Rebuttal comments in response to material submitted during the foregoing period may be submitted during the subsequent 15-day period (to October 11, 2005).

A copy of the application and accompanying exhibits will be available for public inspection at the Office of the Foreign-Trade Zones Board's Executive Secretary at the first address listed above, and at the U.S. Department of Commerce Export Assistance Center, 744 Broad Street, Suite 1505, Newark, NJ 07102.

Dated: July 19, 2005.
Dennis Puccinelli
Executive Secretary.

[FR Doc. 05-14875 Filed 7-26-05; 8:45 am]

BILLING CODE: 3510-DS-S